DEPARTMENT OF ENERGY

Federal Energy Regulatory Commission

[Docket No. PR03-9-00]

Louisiana Intrastate Gas Company, L.L.C.; Notice for Petition for Rate Approval

March 19, 2003.

Take notice that on March 3, 2003, Louisiana Intrastate Gas Company, L.L.C. (LIG) filed pursuant to section 284.123(b)(2) of the Commission's regulations, a petition for rate approval requesting that the Commission approve the proposed rates as fair and equitable for transportation services performed under section 311 of the Natural Gas Policy Act of 1978 (NGPA).

LIG requests that the Commission determine that its current maximum rates of $.1880 per MMBtu for interruptible transportation, a $.0000 per MMBtu commodity charge, a $5.7188 per MMBtu monthly demand charge, and a maximum overrun charge of $.1880 per MMBtu remain fair and equitable at this time. LIG also requests continuation of the maximum fuel retention percentage of 2%.

Pursuant to section 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate proceeding must file a motion to intervene or protest with the Federal Energy Regulatory Commission, 888 First Street, NE., Washington DC 20426, in accordance with sections 385.214 or 385.211 of the Commission's Rules and Regulations. All such motions or protests must be filed with the Secretary of the Commission on or before the comment date. Protests will be considered by the Commission in determining the appropriate action to be taken, but will not serve to make protestants parties to the proceedings. Any person wishing to become a party must file a motion to intervene. This petition for rate approval is available for review at the Commission in the Public Reference Room or may be viewed on the Commission's Web site at http://www.ferc.gov using the “FERRIS” link. Enter the docket number excluding the last three digits I the docket number field to access the document. For assistance, contact FERC Online Support at FERCOnlineSupport@ferc.gov or toll-free at (866) 208-3676, or for TTY, contact (202) 502-8659.

Comment Date: April 3, 2003.

Magalie R. Salas,
Secretary.

[FR Doc. 03-7214 Filed 3-25-03; 8:45 am]

BILLING CODE 6717-01-P